DEPARTMENT OF INTERIOR

National Park Service

[NPS-WASO-EQD-SSB-19077; PPAKGAARC6, PPMPRLE1Z.LS0000 (155)]

Proposed Information Collection: Community Harvest Assessments for Alaskan National Parks and Preserves

AGENCY: National Park Service, Interior.

ACTION: Notice; request for comments.

SUMMARY: We (National Park Service) will ask the Office of Management and Budget (OMB) to approve the information collection (IC) concerning community harvest assessments for Alaskan National Parks and Preserves. As required by the Paperwork Reduction Act of 1995 and as part of our continuing efforts to reduce paperwork and respondent burden, we invite the general public and other federal agencies to take this opportunity to comment on this IC. A federal agency not conduct or sponsor, and a person is not required to respond to, a collection of information unless it displays a currently valid OMB control number.

DATES: To ensure that your comments on this IC are considered, we must receive them on or before October 19, 2015.

ADDRESSES: Direct all written comments on this IC to Phadrea Ponds, Information Collection Coordinator, National Park Service, 1201 Oakridge Drive, Fort Collins, CO 80525 (mail); or phadrea_ponds@nps.gov (email). Please reference Information Collection 1024-0262 in the subject line.

FOR FURTHER INFORMATION CONTACT: Marcy Okada, National Park Service, 4175 Geist Road, Fairbanks, Alaska, 99709; marcy_okada@nps.gov (email).

SUPPLEMENTARY INFORMATION:

I. Abstract

Under the provisions of the Alaska National Interest Lands Conservation Act (ANILCA), subsistence harvests by local rural residents are considered to be the priority consumptive use of park resources. Community harvest assessments will support the NPS management priorities at GAAR, WRST, YUCH, WEAR, and ANIA that address consumptive use of park resources by NPS-qualified subsistence users. The information will be used by the NPS, the Federal Subsistence Board, the State of Alaska, and local/regional advisory councils in making recommendations and making decisions regarding the management of fish, wildlife, and plants in the region (e.g., seasons, harvest limits, and which communities have customarily and traditionally used various resources). The survey will document subsistence activities over the past year (January through December) for each sampled household. The head of household will be asked to respond for each household.

II. Data

OMB Number: 1024-062.

Title: Community Harvest Assessments for Alaskan National Parks and Preserves.

Type of Request: Reinstatement.

Affected Public: General public and individual households.

Respondent Obligation: Voluntary.

Frequency of Collection: One-time.

Estimated Number of Annual Responses: 1,793.

Annual Burden Hours: 1,195 hours. We estimate the public reporting burden to be 40 minutes per completed survey response.

Estimated Reporting and Recordkeeping “Non-Hour Cost” Burden: We have not identified any “non-hour cost” burdens associated with this collection of information.

III. Request for Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: August 12, 2015.
Madonna L. Baucum,
Information Collection Clearance Officer, National Park Service.

[FR Doc. 2015-20404 Filed 8-17-15; 8:45 am]

BILLING CODE 4310-EH-P